DEPARTMENT OF HOMELAND SECURITY

Coast Guard

[Docket No. USCG-2016-0153]

National Offshore Safety Advisory Committee; Vacancies

AGENCY: Coast Guard, DHS.

ACTION: Request for applications.

SUMMARY: The Coast Guard seeks applications for membership on the National Offshore Safety Advisory Committee. The National Offshore Safety Advisory Committee advises the Secretary of the Department of Homeland Security on matters and actions concerning activities directly involved with or in support of the exploration of offshore mineral and energy resources insofar as they relate to matters within Coast Guard jurisdiction.

DATES: Completed applications should reach the Coast Guard on or before May 17, 2016.

ADDRESSES: Applicants should send a cover letter expressing interest in an appointment to the National Offshore Safety Advisory Committee that also identifies which membership category the applicant is applying under, along with a resume detailing the applicant's experience via one of the following methods:

• By Email: patrick.w.clark@uscg.mil

• By Fax: (202) 372-8382

• By Mail: Mr. Patrick W. Clark, Alternate Designated Federal Officer of the National Offshore Safety Advisory Committee, Commandant, (CG-OES-2)/NOSAC U.S. Coast Guard, 2703 Martin Luther King Jr. Avenue SE., STOP 7509, Washington, DC 20593-7509.

FOR FURTHER INFORMATION CONTACT: Mr. Patrick Clark, Alternate Designated Federal Officer of the National Offshore Safety Advisory Committee, Commandant, (CG-OES-2)/NOSAC U.S. Coast Guard, 2703 Martin Luther King Jr. Avenue SE., STOP 7509, Washington, DC 20593-7509; email patrick.w.clark@uscg.mil; telephone (202) 372-1358; fax (202) 372-8382.

SUPPLEMENTARY INFORMATION: The National Offshore Safety Advisory Committee name is a federal advisory committee established in accordance with the provisions of the Federal Advisory Committee Act, (Title 5 U.S.C. Appendix) to advise the Secretary of Department of Homeland Security on matters and actions concerning activities directly involved with or in support of the exploration of offshore mineral and energy resources insofar as they relate to matters within Coast Guard jurisdiction.

The Committee normally meets twice a year: Once in April in the New Orleans, LA, and then in November in Houston, TX. Each National Offshore Safety Advisory Committee member serves a term of office up to three (3) years. Members may serve a maximum of two consecutive terms. All members serve at their own expense and receive no salary or reimbursement of travel expenses, or other compensation from the Federal Government.

We will consider applications for the six positions listed below that will be vacant on January 31, 2017:

(a) One member representing companies, organizations, enterprises or similar entities engaged in offshore drilling;

(b) One member representing companies, organizations, enterprises or similar entities engaged in production of petroleum;

(c) One member representing companies, organizations, enterprises or similar entities engaged in offshore oil exploration and production on the Outer Continental Shelf of Alaska;

(d) One member representing companies, organizations, enterprises or similar entities engaged in the support, by offshore supply vessel or other vessels, of offshore operations;

(e) One member representing companies, organizations, enterprises or similar entities providing environmental protection, compliance or response services to the offshore industry; and,

(f) One member representing companies, organizations, enterprises or similar entities providing safety and training services to the offshore industry.

To be eligible, applicants for positions (a-f) should be employed by companies, organizations, enterprises or similar entities associated with the exploration for, and the recovery of oil, gas and other mineral resources on the U. S. Outer Continental Shelf; and have expertise, knowledge and experience regarding the technology, equipment and techniques that are used or are being developed for use in the exploration for, and the recovery of, offshore mineral resources.

Registered lobbyists are not eligible to serve on federal advisory committees in an individual capacity. See “Revised Guidance on Appointment of Lobbyist to Federal Advisory Committees, Boards and Commissions” (79 FR 47482, August 13, 2014). Registered lobbyists are lobbyists required to comply with provisions contained in the Lobbying Disclosure Act of 1995 (2 U.S.C. 1605; as amended by Title II of Pub. L. 110-81).

The Department of Homeland Security does not discriminate in selection of Committee members on the basis of race, color, religion, sex, national origin, political affiliation, sexual orientation, gender identity, marital status, disabilities and genetic information, age membership in an employee organization, or any other non-merit factor. The Department of Homeland Security strives to achieve a widely diverse candidate pool for all of its recruitment actions.

If you are interested in applying to become a member of the Committee, send your cover letter and resume to Mr. Patrick Clark, Alternate Designated Federal Officer of the National Offshore Safety Advisory Committee by email or mail according to instructions in the ADDRESSES section by the deadline in the DATES section of this notice. All email submittals will receive email receipt confirmation.

Dated: March 14, 2016.
J.G. Lantz,
Director of Commercial Regulations and Standards, U.S. Coast Guard.

[FR Doc. 2016-06207 Filed 3-17-16; 8:45 am]

BILLING CODE 9110-04-P